ENVIRONMENTAL PROTECTION AGENCY

[EPA-HQ-OAR-2025-0097; FRL-13079-01-OMS]

Agency Information Collection Activities; Submission to the Office of Management and Budget for Review and Approval; Comment Request; Renewable Fuel Standard (RFS) Program: RFS Annual Rules (Renewal)

AGENCY: Environmental Protection Agency (EPA).

ACTION: Notice.

SUMMARY: The Environmental Protection Agency (EPA) has submitted an information collection request (ICR), Renewable Fuel Standard (RFS) Program: RFS Annual Rules (EPA ICR Number 2546.04, OMB Control Number 2060-0725) to the Office of Management and Budget (OMB) for review and approval in accordance with the Paperwork Reduction Act. This is a proposed extension of the ICR, which is currently approved through November 30, 2025. Public comments were previously requested via the Federal Register on April 30, 2025, during a 60-day comment period. This notice allows for an additional 30 days for public comments.

DATES: Comments may be submitted on or before December 22, 2025.

ADDRESSES: Submit your comments, referencing Docket ID Number EPA-HQ-OAR-2025-0097, to EPA online using www.regulations.gov (our preferred method), by email to EPA-HQ-OAR-2025-0097, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: John D. Weihrauch Office of Air and Radiation, Mail Code 6405A, Environmental Protection Agency, 1200 Pennsylvania Ave. NW, Washington, DC 20460; telephone number: 202-343-9477; email address: weihrauch.john@epa.gov.

SUPPLEMENTARY INFORMATION: This is a proposed extension of the ICR, which is currently approved through November 30, 2025. An agency may not conduct or sponsor and a person is not required to respond to a collection of information unless it displays a currently valid OMB control number.

Public comments were previously requested via the Federal Register on April 30, 2025 during a 60-day comment period (90 FR 17920). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR is for general registration, recordkeeping, and reporting under the Renewable Fuel Standard (RFS) program, required by Clean Air Act and implementing regulations in 40 CFR parts 80 and 1090. The RFS program relies upon marketable credits (RINs) to function, which necessitates recordkeeping and reporting to establish type and number of RINs generated, sold, retired, etc. EPA provides the secure systems that respondents use to register, submit compliance reports, and transact RINs, which removes a burden from industry. EPA uses the information to monitor compliance with RFS and to ensure the integrity of the RIN market and to ensure the integrity of the RIN market.

Form Numbers: RFS0107 (5900-631), RFS0304 (5900-492), RFS0500(5900-493), RFS0602 (5900-290), RFS0702 (5900-289), RFS0801 (5900-293), RFS0902 (5900-278), RFS1000 (5900-335), RFS1200 (5900-337), RFS1300 (5900-262), RFS1400 (5900-354), RFS1500 (5900-355), RFS1600 (5900-356), RFS1701 (5900-632), RFS2001 (5900-633), RFS2101 (5900-634), RFS2201 (5900-635), RFS2301 (5900-636), RFS2400 (5900-361), RFS2500 (5900-374), RFS2700 (5900-373).

Respondents/affected entities: RIN Generators, Obligated Parties, RIN Owners, Exporters, QAP Providers, Petitioners for Aggregate Compliance, Third Parties.

Respondent's obligation to respond: Mandatory under 40 CFR parts 80 and 1090.

Estimated number of respondents: 28,804 (total).

Frequency of response: Quarterly, annually, on occasion.

Total estimated burden: 767,353 hours (per year). Burden is defined at 5 CFR 1320.03(b).

Total estimated cost: $22,724,608 (per year), which includes $0 annualized capital or operation & maintenance costs.

Changes in the Estimates: There is a decrease of 93,617 hours in the total estimated respondent burden compared with the ICR currently approved by OMB. This decrease is due to several factors. First, some of the burden in the existing ICR was for one-time burdens, such as initially programming codes, which existing parties will have already performed. Second, some of the burden in the existing ICR has been reduced through improvements in reporting methods initiated by EPA—for example, EPA has greatly improved its unified reporting format (URF) used for data entry in a manner that provides feedback to respondents and reduces errors and resubmissions. Third, EPA has reduced complexity by removing reporting steps and certain stand-alone forms.

Courtney Kerwin,
Director, Information Engagement Division.

[FR Doc. 2025-20355 Filed 11-19-25; 8:45 am]

BILLING CODE 6560-50-P